DEPARTMENT OF DEFENSE

U.S. Marine Corps

[Docket ID USN-2009-0021]

Privacy Act of 1974; System of Records

AGENCY: U.S. Marine Corps, DoD.

ACTION: Notice to alter a system of records.

SUMMARY: The U.S. Marine Corps is proposing to alter an existing inventory of system of records notice subject to the Privacy Act of 1974, (5 U.S.C. 552a), as amended.

DATES: This proposed action will be effective without further notice on January 13, 2010 unless comments are received which result in a contrary determination.

ADDRESSES: You may submit comments, identified by docket number and title, by any of the following methods:

Federal Rulemaking Portal: http://www.regulations.gov. Follow the instructions for submitting comments.

Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a (r), of the Privacy Act of 1974, as amended, was submitted on December 3, 2009 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 9, 2009.
Mitchell S. Bryman,
Alternate OSD Federal Register Liaison Officer, Department of Defense.

M05100-6

System Name:

Camp Lejeune Historic Drinking Water Notification Registry (July 16, 2007, 72 FR 38826).

Changes:

System Name:

Delete entry and replace with “MCB Camp Lejeune Historic Drinking Water Notification Registry.”

System Location:

Delete entry and replace with “Headquarters, U.S. Marine Corps, Installation and Logistics Division, Land Use and Military Construction Branch (LFL), 2 Navy Annex, Room 3109, Washington, DC 20380-1775.”

Categories of Individuals Covered by the System:

Delete entry and replace with “U.S. Service Members including Active Duty, Reserve, retired, and separated, military dependents, Federal government employees, and civilian personnel who were stationed, lived, or were employed aboard Marine Corps Base Camp Lejeune, NC between 1957 and 1987.”

Categories of Records in the System:

Delete entry and replace with “Full name, Social Security Number (SSN), current address, phone number, e-mail address, length of stay, address and duty status while living or working on Camp Lejeune.”

Authority for Maintenance of the System:

Delete entry and replace with “10 U.S.C. 5041, Headquarters, U.S. Marine Corps; and E.O. 9397 (SSN), as amended.”

Purpose(s):

Delete entry and replace with “The purpose of this system is to obtain and maintain contact information of people who may have been exposed to the drinking water at Camp Lejeune between 1957 and 1987. The information will be used to provide notifications to such persons regarding possible contamination of the drinking water on Camp Lejeune during this time period.”

Routine Uses of Records Maintained in the System, Including Categories of Users and the Purposes of Such Uses:

Delete entry and replace with “In addition to those disclosures generally permitted under 5 U.S.C. 552a(b) of the Privacy Act of 1974, these records or information may specifically be disclosed outside the DoD as a routine use pursuant to 5 U.S.C. 552a(b)(3) as follows:

Pursuant to 5 U.S.C. 522a(b)(8) to federal and state public health and environmental agencies in the performance of their official duties related to the protection and study of human health and the environment as affected by potential exposure to toxic contamination.

To the Department of Veterans Affairs (DVA) for the purpose of providing medical care to former service members and retirees, to determine the eligibility for or entitlement to benefits, to coordinate cost sharing activities, and to facilitate collaborative research activities between the DoD and DVA.

To officials and employees of the Agency for Toxic Substances and Diseases Registry (ATSDR) to facilitate ATSDR research activities.

The DoD `Blanket Routine Uses' that appear at the beginning of the Navy's compilation of systems of records notices apply to this system.”

* * * * *

Retrievability:

Delete entry and replace with “Records will routinely be retrieved by name.”

Safeguards:

Delete entry and replace with “The Registry's servers are located in a secure area at Headquarters U.S. Marine Corps. Access to the database containing registry records is controlled and restricted by Headquarters U.S. Marine Corps personnel with authorized access only.”

Retention and Disposal:

Delete entry and replace with “Indefinite, pending NARA approval.

System Manager(S) and Address:

Delete entry and replace with “Headquarters, U.S. Marine Corps, Installation and Logistics Division, Land Use and Military Construction Branch (LFL), 2 Navy Annex, Room 3109, Washington, DC 20380-1775.”

* * * * *

Record Access Procedures:

Delete entry and replace with “Individuals seeking access to additional information about themselves contained in this system should address written inquiries to the Headquarters, U.S. Marine Corps, Installation and Logistics Division, Land Use and Military Construction Branch (LFL), 2 Navy Annex, Room 3109, Washington, DC 20380-1775.

Written requests should contain full name. The system manager will require an original signature or a notarized signature as a means of proving the identity of the individual requesting access to the records.”

* * * * *

Record Source Categories:

Delete entry and replace with “Individuals, Defense Manpower Data Center (DMDC) database, and Agency for Toxic Substances and Diseases Registry (ATSDR) files.”

* * * * *

M05100-6

System Name:

MCB Camp Lejeune Historic Drinking Water Notification Registry.

System Location:

Headquarters, U.S. Marine Corps, Installation and Logistics Division, Land Use and Military Construction Branch (LFL), 2 Navy Annex, Room 3109, Washington, DC 20380-1775.

Categories of Individuals Covered by the System:

U.S. Service Members including Active Duty, Reserve, retired, and separated, military dependents, Federal government employees, and civilian personnel who were stationed, lived, or were employed aboard Marine Corps Base Camp Lejeune, NC between 1957 and 1987.

Categories of Records in the System:

Full name, Social Security Number (SSN), current address, phone number, e-mail address, length of stay, address and duty status while living or working on Camp Lejeune.

Authority for Maintenance of the System:

10 U.S.C. 5041, Headquarters, U.S. Marine Corps; and E.O. 9397 (SSN), as amended.

Purpose(s):

The purpose of this system is to obtain and maintain contact information of people who may have been exposed to the drinking water at Camp Lejeune between 1957 and 1987. The information will be used to provide notifications to such persons regarding possible contamination of the drinking water on Camp Lejeune during this time period.

Routine Uses of Records Maintained in the System, Including Categories of Users and the Purposes of Such Uses:

In addition to those disclosures generally permitted under 5 U.S.C. 552a(b) of the Privacy Act of 1974, these records or information may specifically be disclosed outside the DoD as a routine use pursuant to 5 U.S.C. 552a(b)(3) as follows:

Pursuant to 5 U.S.C. 522a(b)(8) to federal and state public health and environmental agencies in the performance of their official duties related to the protection and study of human health and the environment as affected by potential exposure to toxic contamination.

To the Department of Veterans Affairs (DVA) for the purpose of providing medical care to former service members and retirees, to determine the eligibility for or entitlement to benefits, to coordinate cost sharing activities, and to facilitate collaborative research activities between the DoD and DVA.

To officials and employees of the Agency for Toxic Substances and Diseases Registry (ATSDR) to facilitate ATSDR research activities.

The DoD `Blanket Routine Uses' that appear at the beginning of the Navy's compilation of systems of records notices apply to this system.

Policies and Practices for Storing, Retrieving, Accessing, Retaining, and Disposing of Records in the System:

Storage:

Electronic storage media.

Retrievability:

Records will routinely be retrieved by name.

Safeguards:

The Registry's servers are located in a secure area at Headquarters U.S. Marine Corps. Access to the database containing registry records is controlled and restricted by Headquarters U.S. Marine Corps personnel with authorized access only.

Retention and Disposal:

Indefinite, pending NARA approval.

System Manager(s) and Address:

Headquarters U.S. Marine Corps, Installation and Logistics Division, Land Use and Military Construction Branch (LFL), 2 Navy Annex, Room 3109, Washington, DC 20380-1775.

Notification Procedure:

Individuals seeking to determine whether information about themselves is contained in this system should address written inquiries to the Headquarters, U.S. Marine Corps, Installation and Logistics Division, Land Use and Military Construction Branch (LFL), 2 Navy Annex, Room 3109, Washington, DC 20380-1775.

Written requests should contain full name. The system manager will require an original signature or a notarized signature as a means of proving the identity of the individual requesting access to the records.

Record Access Procedures:

Individuals seeking access to additional information about themselves contained in this system should address written inquiries to the Headquarters, U.S. Marine Corps, Installation and Logistics Division, Land Use and Military Construction Branch (LFL), 2 Navy Annex, Room 3109, Washington, DC 20380-1775.

Written requests should contain full name. The system manager will require an original signature or a notarized signature as a means of proving the identity of the individual requesting access to the records.

Contesting Record Procedures:

The Navy's rules for accessing records, and for contesting contents and appealing initial agency determinations are published in Secretary of the Navy Instruction 5211.5; 32 CFR part 701; or may be obtained from the system manager.

Record Source Categories:

Individuals, Defense Manpower Data Center (DMDC) database, and Agency for Toxic Substances and Diseases Registry (ATSDR) files.

Exemptions Claimed for the System:

None.

[FR Doc. E9-29646 Filed 12-11-09; 8:45 am]

BILLING CODE 5001-06-P